ELECTION ASSISTANCE COMMISSION

Sunshine Act Meetings

AGENCY: U.S. Election Assistance Commission.

ACTION: Sunshine Act Notice; Notice of Public Roundtable Agenda.

SUMMARY: 2020 EAVS and 2020 Elections Lessons Learned Roundtable.

DATES: Tuesday, August 17, 2021, 1:00 p.m.-3:00 p.m. Eastern.

ADDRESSES: Virtual via Zoom.

The roundtable is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct a virtual roundtable discussion on the new Election Administration and Voting Survey (EAVS) 2020 Comprehensive Report and “Lessons Learned from the 2020 General Election” report commissioned by the EAC.

Agenda: The U.S. Election Assistance Commission (EAC) Commissioners will lead the discussion with two panels of speakers. The first panel will provide an overview of the 2020 EAVS and Policy Survey and the data outcomes. The second panel will include the authors of EAC commissioned “Lessons Learned from the 2020 General Election” report.

Previous EAVS reports are available on the EAC's studies and report web page: https://www.eac.gov/research-and-data/studies-and-reports. The 2020 EAVS will be available on that web page once it is finalized. The “Lessons Learned from the 2020 General Election” report will also be available on the EAC's website: https://www.eac.gov.

The full agenda will be posted in advance on the EAC website: https://www.eac.gov.

Background

Since 2004, the U.S. Election Assistance Commission (EAC) has conducted the Election Administration and Voting Survey (EAVS) following each federal general election. The EAVS asks all 50 U.S. states, the District of Columbia, and five U.S. territories—American Samoa, Guam, the Northern Mariana Islands, Puerto Rico, and the U.S. Virgin Islands—to provide data about the ways Americans vote and how elections are administered. Since 2008, this project has included a separate survey collecting information about state election laws, policies, and practices.

The EAVS provides the most comprehensive source of state and local jurisdiction-level data about election administration in the United States. Topics covered through EAVS data collection relate to voter registration and list maintenance, voting practices for overseas citizens and members of the armed forces serving away from home and other important issues related to voting and election administration.

The EAC commissioned Charles Stewart from MIT and John Fortier from the American Enterprise Institute to develop the “Lessons Learned from the 2020 General Election” report. This report draws on a wide variety of evidence and statistical sources to review a variety of topics that inform our understanding of how well the election was run: Shifting from in-person to mail balloting; managing mail and in-person voting; counting votes; paying for the election; voting technology; voter registration; and voter confidence.

Status

This roundtable discussion will be open to the public.

Amanda Joiner,
Associate Counsel, U.S. Election Assistance Commission.

[FR Doc. 2021-16874 Filed 8-3-21; 4:15 pm]

BILLING CODE P